SECURITIES AND EXCHANGE COMMISSION

Sunshine Act Meeting

Notice is hereby given, pursuant to the provisions of the Government in the Sunshine Act, Pub. L. 94-409, that the Securities and Exchange Commission will hold an Open Meeting on Thursday, November 15, 2007 at 10 a.m., in Room L-002, the Auditorium.

The subject matters of the Open Meeting will be:

1. The Commission will consider rule proposals to improve mutual fund disclosure by providing investors with a summary prospectus containing key information in plain English in a clear and concise format, and by enhancing the availability on the Internet of more detailed information to investors. The Commission also will consider whether to propose related amendments to Form N-1A.

2. The Commission will consider whether to adopt amendments to Form 20-F, Rules 1-02, 3-10 and 4-01 of Regulation S-X, Forms F-4 and S-4, and Rule 701 under the Securities Act to accept financial statements prepared in accordance with International Financial Reporting Standards as issued by the International Accounting Standards Board without reconciliation to generally accepted accounting principles as used in the United States when contained in the filings of foreign private issuers with the Commission.

3. The Commission will consider whether to adopt amendments to its disclosure and reporting requirements under the Securities Act of 1933 and Securities Exchange Act of 1934 to expand the number of companies that qualify for scaled disclosure requirements for smaller reporting companies. Companies with less than $75 million in public equity float would qualify for the scaled requirements, and companies without a calculable public equity float would qualify if their annual revenues were below $50 million. To streamline and simplify regulation, the amendments to be considered would move the scaled disclosure requirements from Regulation S-B into Regulation S-K and would eliminate the “SB” forms.

4. The Commission will consider whether to adopt amendments to Rule 144 to shorten the holding period for the resale of restricted securities if the issuer of the securities is subject to the Exchange Act reporting requirements. The amendments also substantially reduce the restrictions applicable to resales of restricted securities by non-affiliates of both reporting and non-reporting companies. In addition, the amendments codify several staff interpretations relating to Rule 144 and revise the manner of sale requirements, volume limitations, and Form 144 filing thresholds. Finally, the Commission also will consider whether to adopt related amendments to Rule 145.

5. The Commission will consider whether to adopt amendments to Rule 12h-1 under the Exchange Act to provide two exemptions from the registration requirements of the Exchange Act for compensatory employee stock options. The first exemption would be available to issuers that are not required to file periodic reports under the Exchange Act, and the second exemption would be available to issuers that are required to file those reports because they have registered a class of security under section 12 of the Exchange Act or are required to file those reports pursuant to section 15(d) of the Exchange Act.

For further information and to ascertain what, if any, matters have been added, deleted or postponed, please contact:

The Office of the Secretary at (202) 551-5400.

Dated: November 7, 2007.
Nancy M. Morris,
Secretary.

[FR Doc. E7-22169 Filed 11-13-07; 8:45 am]

BILLING CODE 8011-01-P